FEDERAL COMMUNICATIONS COMMISSION

47 CFR Parts 1 and 43

[WC Docket No. 11-10; FCC 13-87]

Modernizing the FCC Form 477 Data Program

AGENCY: Federal Communications Commission.

ACTION: Final rule; announcement of effective date.

SUMMARY: In this document the Federal Communications Commission (Commission) released a Report and Order which revised the Commission's Form 477 collection to include data on deployment of fixed and mobile broadband networks and mobile voice networks, as well as company identification and emergency contact information. The Report and Order also made a number of targeted changes to the collection of subscription data to reduce reporting burdens and improve the quality and usefulness of data collected through the Form 477.

DATES: Sections 1.7001, 1.7002, 43.01 and 43.11, published at 78 FR 49126, were approved by the OMB on June 4, 2014 (OMB Control Number 3060-0816). Accordingly, the amendments to those sections published at 78 FR 49126, Aug. 13, 2013, are effective June 26, 2014.

FOR FURTHER INFORMATION CONTACT: Chelsea Fallon, Wireline Competition Bureau, (202) 418-7991 or chelsea.fallon@fcc.gov.

SUPPLEMENTARY INFORMATION: The Report and Order stated that the changes to §§ 1.7001, 1.7002, 43.01 and 43.11 of the Commission's rules, which contain information collection requirements, would be effective upon announcement in the Federal Register of OMB approval. On June 4, 2014, OMB approved the information collection requirement contained in the Report and Order pursuant to OMB Control Number: 3060-0816, Local Telephone Competition and Broadband Reporting, FCC Form 477. Accordingly, the information collection requirements contained in the Report and Order are effective June 26, 2014. The expiration date for the information collection is June 30, 2017. The Commission will announce, in a separate notice, the due date by which respondents must submit the required data.

Pursuant to the Paperwork Reduction Act of 1995, 44 U.S.C. 3501-3520, an agency may not conduct or sponsor a collection of information unless it displays a currently valid control number. Notwithstanding any other provisions of law, no person shall be subject to any penalty for failing to comply with the collection of information subject to the Paperwork Reduction Act that does not display a valid control number. Questions concerning this information collection, 3060-1196, should be directed to Leslie F. Smith, Federal Communications Commission at (202) 418-0217 or leslie.smith@fcc.gov.

The total annual reporting burdens and costs for the respondents are as follows:

OMB Control Number: 3060-0816.

OMB Approval Date: June 4, 2014.

OMB Expiration Date: June 30, 2017.

Title: Local Telephone Competition and Broadband Reporting, FCC Form 477.

Form Number: FCC Form 477.

Respondents: Business or other for-profit entities; not-for-profit institutions; and State, local or tribal governments.

Number of Respondents and Responses: 2,002 respondents; 4,004 responses.

Estimated Time Per Response: 387 hours.

Frequency of Response: Semi-annual reporting requirement.

Obligation to Respond: Mandatory. Statutory authority for this information collection is contained in 47 U.S.C. 4(i), 201, 218-220, 251-252, 271, 303(r), 332, and 403 of the Communications Act of 1934, as amended and section 706 of the Telecommunications Act of 1996, as amended, codified in section 1302 of the Broadband Data Improvement Act, 47 U.S.C. 1302.

Total Annual Burden: 1,549,548 hours.

Total Annual Cost: None.

Nature and Extent of Confidentiality: The Commission will continue to allow respondents to certify on the submission interface that some subscribership data contained in that submission are privileged or confidential commercial or financial information and that disclosure of such information would likely cause substantial harm to the competitive position of the entity making the submission. If the Commission receives a request for, or proposes to disclose such information, the respondent would be required to show, pursuant to Commission rules for withholding from public inspection information submitted to the Commission, that the information in question is entitled to confidential treatment. We will retain our current policies and procedures regarding the protection of submitted FCC Form 477 data subject to confidential treatment, including the use of only non-company specific aggregates of subscribership data in our published reports. Most of the broadband deployment data to be collected on Form 477 as a result of modifications will be made publicly available. NTIA currently publishes similar data on the National Broadband Map Web site at www.broadbandmap.gov. The Commission will coordinate with NTIA to continue the publication of the National Broadband Map using the data to be collected through modifications to Form 477. The one exception is that mobile broadband and voice providers can request confidential treatment of their deployment data by spectrum band.

Needs and Uses: FCC Form 477 gathers information on the development of local telephone competition, including telephone services and interconnected Voice over Internet Protocol (VoIP) services, and on the deployment of broadband Internet access services. FCC staff use the information to advise the Commission about the efficacy of its rules and policies adopted to implement the Telecommunications Act of 1996. The data are necessary to evaluate the status of local telecommunications competition and broadband deployment.

Federal Communications Commission.
Marlene H. Dortch,
Secretary.

[FR Doc. 2014-15005 Filed 6-25-14; 8:45 am]

BILLING CODE 6712-01-P